DEPARTMENT OF VETERANS AFFAIRS

Advisory Committee on Structural Safety of Department of Veterans Affairs Facilities; Notice of Meeting

The Department of Veterans Affairs (VA) gives notice under Public Law 92-463 (Federal Advisory Committee Act) that a meeting of the Advisory Committee on Structural Safety of Department of Veterans Affairs Facilities will be held on Thursday, June 6, 2002, from 10 a.m. until 5 p.m., and on Friday, June 7, 2002, from 9 a.m. until 12:30 p.m., in Room 460, Export Import Bank, 811 Vermont Avenue, NW., Washington, DC. The meeting is open to the public.

The purpose of the Committee is to advise the Secretary of Veterans Affairs on matters of structural safety in the construction and remodeling of VA facilities and to recommend standards for use by VA in the construction and alteration of facilities as prescribed under Section 8105 of Title 38, United States Code.

On June 6, the Committee will review developments in the field of structural design, as they relate to seismic safety of buildings, and fire safety issues. On June 7, the Committee will vote on structural and fire safety issues for inclusion in VA's standards.

Those wishing to attend should contact Kristna K. Banga, Senior Structural Engineer, Facilities Quality Service, Office of Facilities Management, Department of Veterans Affairs, at (202) 565-9370.

Dated: May 17, 2002.
By Direction of the Secretary.
Nora E. Egan,
Committee Management Officer.

[FR Doc. 02-13097 Filed 5-23-02; 8:45 am]

BILLING CODE 8320-01-M